DEPARTMENT OF THE INTERIOR

National Park Service

National Register of Historic Places; Notification of Pending Nominations and Related Actions

Nominations for the following properties being considered for listing or related actions in the National Register were received by the National Park Service before November 22, 2008.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historical Places, National Park Service, 1201 Eye St. NW., 8th floor, Washington DC 20005; or by fax, 202-371-6447. Written or faxed comments should be submitted by December 23, 2008.

J. Paul Loether,
Chief, National Register of Historic Places/National Historic Landmarks Program.

ALABAMA

Mobile County

Knox, Ross, House, 102 Hillwood Rd., Mobile, 08001252

ARKANSAS

Nevada County

Prescott Commercial Historic District, Bounded by E. 3rd St., Walnut St., W. 3rd St., and Pine St., Prescott, 08001242

FLORIDA

Glades County

Red Barn, 3 mi. W of Co. Rd. 721 on Co. Rd. 721A, Okeechobee, 08001243

Orange County

Barbour, Robert Bruce, House, 656 Park Ave. N., Winter Park, 08001244

St. Johns County

Fort Matanzas NM Headquarters and Visitor Center, (Florida's New Deal Resources MPS) 8635 A1A S., St. Augustine, 08001245

GEORGIA

Habersham County

Demorest Women's Club, 1035 Central Ave., Demorest, 08001247

Harris County

Bethlehem Baptist Church Colored School, 200 Bethlehem Dr., Pine Mountain Valley, 08001246

Taylor County

Mauk School, 37 GA 127 S., Mauk, 08001248

Troup County

Kidd-Robertson House, 2423 Greenville Rd., LaGrange, 08001249

ILLINOIS

Winnebago County

Lundberg, Charles, House, 946 N. 2nd St., Rockford, 08001251

IOWA

Benton County

Herring Hotel, 718 13th St., Belle Plaine, 08001250

MAINE

Cumberland County

Bailey Island Library Hall, 2167 Harpswell Island Rd., Harpswell, 08001253

Kennebec County

Kent Burying Ground, NE corner of Fayette Corner Rd. and Oak Hill Rd., Fayette, 08001254

Winthrop Street Historic District (Boundary Increase), 20 Spring St., Augusta, 08001255

Lincoln County

Pythian Opera House, 86 Townsend Ave., Boothbay Harbor, 08001256

Oxford County

Forest Lodge, Carry Rd., about 1.9 mi. W. of Middle Dam, Upton, 08001257

York County

Biddeford—Saco Mills Historic District, Bounded by Pearl, Lincoln, York and Main Sts., Biddeford, Gooch and Saco Sts., Biddeford, 08001258

MISSOURI

Cape Girardeau County

Main—Spanish Commercial Historic District, (Cape Girardeau, Missouri MPS) Roughly the 100 blocks of Main and Spanish Sts. and adjacent portions of Themis and Independence, Cape Girardeau, 08001259

St. Louis County

Webster Park Residential Historic District, Roughly bounded by Newport, Bompart, E. Lockwood, N. Maple and Glen Rd., Webster Groves, 08001260

MONTANA

Fergus County

Naylor Brothers Ranch Historic District, 503 E. Dry Creek Rd., Buffalo, 08001261

NORTH DAKOTA

Grand Forks County

Grand Forks County Fairgrounds WPA Structures, 2300 Gateway Dr., Grand Forks, 08001262

OREGON

Multnomah County

Pacific Hardware and Steel Company Warehouse, 2181 NW Nicolai St., Portland, 08001263

Washington County

Young, John Quincy Adams and Elizabeth, House, 12050 NW Cornell Rd., Portland, 08001264

PENNSYLVANIA

Delaware County

Woodcrest, 610 King of Prussia Rd., Radnor Township, 08001265

Lawrence County

Scottish Rite Cathedral, 110 E. Lincoln Ave., New Castle, 08001266

Luzerne County

St. Stanislaus Institute, 141 Old Newport St., Newport Township, 08001267

Northampton County

Lutz-Franklin School, (Educational Resources of Pennsylvania MPS) 4216 Countryside La., Lower Saucon Township, 08001268

Philadelphia County

Amalgamated Center, 2101-2143 S. St., Philadelphia, 08001269

Wynnestay, 5125 Woodbine Ave., Philadelphia, 08001270

York County

York Historic District (Boundary Increase), Edgar and Charles St., MD and PA Railroad, Vander and Church Aves., York, 08001271

VIRGINIA

Suffolk Independent City, Somerton Historic District, Arthur Dr., Pittmantown Rd., Boonetown Rd., Suffolk, 08001272

[FR Doc. E8-28905 Filed 12-5-08; 8:45 am]

BILLING CODE 4310-70-P